DEPARTMENT OF COMMERCE

National Oceanic and Atmospheric Administration

50 CFR Part 679

[Docket No. 0910131363-0087-02]

RIN 0648-XA120

Fisheries of the Exclusive Economic Zone Off Alaska; Inseason Adjustment to the 2011 Bering Sea and Aleutian Islands Pacific Cod Total Allowable Catch Amount

AGENCY: National Marine Fisheries Service (NMFS), National Oceanic and Atmospheric Administration (NOAA), Commerce.

ACTION: Temporary rule; inseason adjustment; request for comments.

SUMMARY: NMFS is adjusting the 2011 total allowable catch (TAC) amount for the Bering Sea and Aleutian Islands (BSAI) Pacific cod fishery. This action is necessary because NMFS has determined this TAC is incorrectly specified. This action will ensure the BSAI Pacific cod TAC is the appropriate amount, based on the best available scientific information for Pacific cod in the BSAI. This action is consistent with the goals and objectives of the Fishery Management Plan for Groundfish of the Bering Sea and Aleutian Islands Management Area.

DATES: Effective 1200 hrs, Alaska local time (A.l.t.), January 5, 2011, until the effective date of the final 2011 and 2012 harvest specifications for BSAI groundfish, unless otherwise modified or superseded through publication of a notification in the Federal Register.

Comments must be received at the following address no later than 4:30 p.m., A.l.t., January 20, 2011.

ADDRESSES: Send comments to James W. Balsiger, Administrator, Alaska Region, NMFS, Attn: Ellen Sebastian. You may submit comments, identified by RIN 0648-XA120, by any one of the following methods:

• Electronic Submissions: Submit all electronic public comments via the Federal eRulemaking Portal http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comment will generally be posted without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Steve Whitney, 907-586-7228.

SUPPLEMENTARY INFORMATION: NMFS manages the groundfish fishery in the BSAI exclusive economic zone according to the Fishery Management Plan for Groundfish of the Bering Sea and Aleutian Islands Management Area (FMP) prepared by the North Pacific Fishery Management Council (Council) under authority of the Magnuson-Stevens Fishery Conservation and Management Act. Regulations governing fishing by U.S. vessels in accordance with the FMP appear at subpart H of 50 CFR part 600 and 50 CFR part 679.

The 2011 Pacific cod TAC in the BSAI was set at 207,580 metric tons (mt) by the final 2010 and 2011 harvest specification for groundfish in the BSAI (75 FR 11778, March 12, 2010).

In December 2010, the Council recommended a 2011 Pacific cod TAC of 227,950 mt for the BSAI. This amount is more than the 207,580 mt established by the final 2010 and 2011 harvest specification for groundfish in the BSAI (75 FR 11778, March 12, 2010). The TAC recommended by the Council is based on the Stock Assessment and Fishery Evaluation report (SAFE), dated November 2010, which NMFS has determined is the best available scientific information for this fishery.

Regulations at § 679.20(a)(7)(i)(B) apportion the Pacific cod TAC allocated to the Bering Sea directed Pacific cod fisheries seasonally to distribute catch over time because Pacific cod is a principal prey species for Steller sea lions listed as endangered under the Endangered Species Act. The first seasonal apportionment can be harvested quickly, and must reflect the TAC based on the best available scientific information to provide the opportunity to harvest available TAC in a manner consistent with the established Steller sea lion protection measures.

In accordance with § 679.25(a)(2)(i)(B), the Administrator, Alaska Region, NMFS (Regional Administrator), has determined that, based on the November 2010 SAFE report for this fishery, the current BSAI Pacific cod TAC is incorrectly specified. Consequently, the Regional Administrator is adjusting the 2011 Pacific cod TAC to 227,950 mt in the BSAI.

Pursuant to § 679.20(a)(7), Table 5b of the final 2010 and 2011 harvest specifications for groundfish in the BSAI (75 FR 11778, March 12, 2010) is revised for the 2011 Pacific cod TAC consistent with this adjustment.

Table 5b—Final 2011 Gear Shares and Seasonal Allowances of the BSAI Pacific Cod TAC
[Amounts are in metric tons]
Gear sector | Percent | Share of gear sector total | Share of sector total | Seasonal apportionment: Dates | Seasonal apportionment: Amount
Total TAC | 100 | 227,950 | n/a | n/a | n/a
CDQ | 10.7 | 24,391 | n/a | see § 679.20(a)(7)(i)(B) | n/a
Total hook-and-line/pot gear | 60.8 | 123,764 | n/a | n/a | n/a
Hook-and-line/pot ICA ¹ | n/a | 500 | n/a | see § 679.20(a)(7)(ii)(B) | n/a
Hook-and-line/pot sub-total | n/a | 123,264 | n/a | n/a | n/a
Hook-and-line catcher/processor | 48.7 | n/a | 98,733 | Jan 1-Jun 10 Jun 10-Dec 31 | 50,354 48,379
Hook-and-line catcher vessel ≥ 60 ft LOA | 0.2 | n/a | 405 | Jan 1-Jun 10 Jun 10-Dec 31 | 207 199
Pot catcher/processor | 1.5 | n/a | 3,041 | Jan 1-Jun 10 Sept 1-Dec 31 | 1,551 1,490
Pot catcher vessel ≥ 60 ft LOA | 8.4 | n/a | 17,030 | Jan 1-Jun 10 Sept 1-Dec 31 | 8,685 8,345
Catcher vessel < 60 ft LOA using hook-and-line or pot gear | 2 | n/a | 4,055 | n/a | n/a
Trawl catcher vessel | 22.1 | 44,987 | n/a | Jan 20-Apr 1 Apr 1-Jun 10 Jun 10-Nov 1 | 33,290 4,949 6,748
AFA trawl catcher/processor | 2.3 | 4,682 | n/a | Jan 20-Apr 1 Apr 1-Jun 10 Jun 10-Nov 1 | 3,511 1,170 0
Amendment 80 | 13.4 | 27,277 | n/a | Jan 20-Apr 1 Apr 1-Jun 10 Jun 10-Nov 1 | 20,458 6,819 0
Alaska Groundfish Cooperative ² | n/a | n/a | 5,079 | Jan 20-Apr 1 Apr 1-Jun 10 Jun 10-Nov 1 | 3,809 1,270 0
Alaska Seafood Cooperative ² | n/a |  | 22,198 | Jan 20-Apr 1 Apr 1-Jun 10 Jun 10-Nov 1 | 16,649 5,550 0
Jig | 1.4 | 2,850 | n/a | Jan 1-Apr 30 Apr 30-Aug 31 Aug 31-Dec 31 | 1,710 570 570
¹ The ICA for the hook-and-line and pot sectors will be deducted from the aggregate portion of Pacific cod TAC allocated to the hook-and-line and pot sectors. The Regional Administrator approves an ICA of 500 mt for 2011 based on anticipated incidental catch in these fisheries.
² Two Amendment 80 cooperatives have formed for 2011, rather than a single cooperative. The Alaska Groundfish Cooperative category replaces a category designated as “Amendment 80 limited access.” Table 5b is updated to reflect this change.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would require harvests lower than the appropriate allocations for Pacific cod, based on the best scientific information available. NMFS was unable to publish a notice providing time for public comment because the most recent, relevant data only became available as of December 15, 2010, and additional time for prior public comment would result in conservation concerns for the ESA-listed Steller sea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 20, 2011.

This action is required by § 679.22 and § 679.25 and is exempt from review under Executive Order 12866.

Authority: 16 U.S.C. 1801 et seq.

Dated: December 29, 2010.
Emily H. Menashes,
Acting Director, Office of Sustainable Fisheries, National Marine Fisheries Service.

[FR Doc. 2010-33306 Filed 12-30-10; 4:15 pm]

BILLING CODE 3510-22-P